DEPARTMENT OF AGRICULTURE

Rural Housing Service

[Docket No. RHS-24-CF-0013]

Notice of Funding Availability for the Community Facilities Technical Assistance and Training Grant Program for Fiscal Year 2024

AGENCY: Rural Housing Service, USDA.

ACTION: Notice.

SUMMARY: The Rural Housing Service (RHS or the Agency), a Rural Development (RD) agency of the United States Department of Agriculture (USDA), announces that it is accepting applications under the Community Facilities Technical Assistance and Training (TAT) Grant Program for fiscal year (FY) 2024. The funding amount available for FY 24 is $540,000.

DATES: Complete applications for grants must be submitted according to the following deadlines:

Paper submissions: Paper submissions must be received by the Agency no later than 4:00 p.m. local time on July 8, 2024 to be eligible for funding under this grant opportunity. Late or incomplete applications will not be eligible for funding.

Electronic submissions: Electronic submissions submitted via Grants.gov must be received no later than 11:59 p.m. Eastern Time on July 3, 2024 to be eligible for funding under this grant opportunity. Late or incomplete applications will not be eligible for funding.

ADDRESSES: This funding announcement will be announced on Grants.gov. Paper applications must be submitted to the USDA Rural Development State Office (RDSO) for the State where the Project is located. For Projects involving multiple states, the application must be filed in the RDSO where the Applicant is located. Applicants may also request paper application packages from their respective RDSO. A list of the USDA RDSO contacts can be found at: rd.usda.gov/about-rd/state-offices.

Entities wishing to apply for assistance may download the application documents and requirements described in this notice from Grants.gov. Application information for electronic submissions may be found at Grants.gov.

FOR FURTHER INFORMATION CONTACT: Louis Trivette, Asset Risk Management Specialist at email address: louis.trivette@usda.gov, United States Department of Agriculture, Rural Development, 214 N. College Street, Suite 300, Greeneville, TN 37745; or call; Telephone: 423-612-1791. For further information on submitting program applications under this notice, please contact the USDA RDSO in the state where the applicant's headquarters is located. A list of RDSO contacts is provided at the following link: rd.usda.gov/about-rd/offices/state-offices.

SUPPLEMENTARY INFORMATION:

Overview

Federal Awarding Agency Name: Rural Housing Service (RHS).

Funding Opportunity Title: Community Facilities Technical Assistance and Training Grant.

Announcement Type: Notice of Funding Availability (NOFA).

Funding Opportunity Number: USDA-RD-CFTAT-2024.

Assistance Listing: 10.766.

Dates: Applications must be submitted using one of the following methods:

• Paper submissions: The deadline for receipt of a paper application is 4 p.m. local time, July 8, 2024. Applicants intending to mail applications must provide sufficient time to permit delivery on or before the closing deadline date and time. Acceptance by the United States Postal Service or private mailer does not constitute delivery. Facsimile (FAX), electronic mail, and postage due applications will not be accepted.

• Electronic submissions: Electronic applications will be accepted via Grants.gov. The deadline for receipt of an electronic application via Grants.gov is 11:59 p.m. Eastern Time on July 3, 2024. The application dates and times are firm. The Agency will not consider any application received after the deadline.

Prior to official submission of applications, applicants may request technical assistance or other application guidance from the Agency, as long as such requests are made prior to June 28, 2024. Technical assistance is not meant to be an analysis or assessment of the quality of the materials submitted, a substitute for agency review of completed applications, nor a determination of eligibility, if such determination requires in-depth analysis. The Agency will not solicit or consider scoring or eligibility information that is submitted after the application deadline. The Agency reserves the right to contact applicants to seek clarification information on materials contained in the submitted application.

Rural Development Key Priorities: The Agency encourages applicants to consider projects that will advance the following key priorities (more details available at rd.usda.gov/priority-points):

• Creating More and Better Market Opportunities: Assisting rural communities recover economically through more and better market opportunities through improved infrastructure.

• Addressing Climate Change and Environmental Justice: Reducing climate pollution and increasing resilience to the impacts of climate change through economic support to rural communities.

• Advancing Racial Justice, Place-Based Equity, and Opportunity: Ensuring all rural residents have equitable access to RD programs and benefits from RD funded projects.

For further information, visit rd.usda.gov/priority-points.

A. Program Description

1. Purpose of the Program. The purpose of the Community Facilities TAT Grant Program is to provide technical assistance and training with respect to essential community facilities programs. To meet this purpose, the Agency will make grants to public bodies and private nonprofit corporations (such as States, counties, cities, townships, and incorporated towns and villages, boroughs, authorities, districts, and Indian tribes on Federal and State reservations) to provide assistance and/or training with respect to essential community facilities programs. The Technical Assistance and/or training will assist communities, Indian tribes, and nonprofit corporations to identify and plan for community facility needs that exist in their area. Once those needs have been identified, the Grantee can assist in identifying public and private resources to finance those identified community facility needs.

2. Statutory and Regulatory Authority. This NOFA is authorized pursuant; Section 306(a)(26) of the Consolidated Farm and Rural Development Act (7 U.S.C. 1926(a)(26)); and implemented under 7 CFR part 3570, subpart F.

3. Definitions. The definitions and abbreviations applicable to this Notice are published at 7 CFR 3570.252 (ecfr.gov/current/title-7/subtitle-B/chapter-XXXV/part-3570/subpart-F/section-3570.252).

4. Application of Awards. The Agency will review, evaluate, and score applications received in response to this notice based on the provisions found in 7 CFR part 3570, subpart F, and as indicated in this notice.

The requirements for submitting an application can be found at 7 CFR 3570.267 (ecfr.gov/current/title-7/subtitle-B/chapter-XXXV/part-3570/subpart-F/section-3570.267). All applicants can access application materials at Grants.gov. Applications must be received by the Agency by the due date listed in the DATES section of this Notice. Applications received after that due date will not be considered for funding. Paper copies of the applications must be submitted to the RDSO in which the applicant is headquartered. Electronic submissions must be submitted at Grants.gov. A listing of the RDSO contacts may be found at rd.usda.gov/files/CF_State_Office_Contacts.pdf. Applicants whose headquarters are in the District of Columbia must submit their application to the National Office in care of Shirley Stevenson, 1400 Independence Ave., SW, STOP 0787, Community Programs Division Room 5104A RD Rural Housing Service (RHS) Community Facilities General Mailbox, Washington, DC 20250. Both paper and electronic applications must be received by the Agency by the deadlines stated in the DATES section of this Notice. The use of a courier and package tracking for paper applications is strongly encouraged. An applicant can only submit one application for funding. Application information for electronic submissions may be found at Grants.gov. Applications will not be accepted via FAX or email.

5. The Agency advises all interested parties that the applicant bears the burden in preparing and submitting an application in response to this notice whether or not the applicant receives any funding as a result of its application.

6. If the proposal involves large increases in employment; hazardous waste; a change in use, size, capacity, purpose, or location from an original facility; or is publicly controversial, the following is required: environmental documentation in accordance with 7 CFR part 1970; financial and statistical information; and a written project description.

B. Federal Award Information

Type of Awards: Grants.

Fiscal Year Funds: FY 2024.

Available Funds: $540,000. Up to ten percent of the available funds may be awarded to the highest scoring Ultimate Recipient(s) as long as they score a minimum score of at least 65. The Agency reserves the right to reduce funding amounts based on the Agency's determination of available funding or other Agency funding priorities.

Award Amounts: Grant funds are limited and are awarded through a competitive process.

Minimum/Maximum Award Amount: Grant awards made to Ultimate Recipients will not exceed $50,000. The Agency has capped the grant awards for Technical Assistance Providers assisting Ultimate Recipients to not exceed $150,000. This applies even if the Technical Assistance Provider covers entities in one county, multiple counties, or multiple states.

Anticipated Award Date: Awards will be made on or before September 15, 2024.

Performance Period: The grant period is to be for no more than three years.

Renewal or Supplemental Awards: Applicants may apply for funding in future funding cycles. No unfunded applications will carry over to the next funding cycle. The Agency awards points for applicants that have not received a previous grant. Applicants must re-apply for an additional grant.

Type of Assistance Instrument: Grant agreement.

C. Eligibility Information

1. Eligible Applicants. Both the applicant and the use of funds must meet eligibility requirements. The applicant eligibility requirements can be found at 7 CFR 3570.262. Eligible project purposes can be found at 7 CFR 3570.263. Ineligible project purposes can be found at 7 CFR 3570.264.

Non-tribal applicants proposing to provide Technical Assistance to Tribes should provide adequate documentation (for example, a letter of support from the Tribe or Tribes) that the Technical Assistance they are proposing to provide is supported by the Tribes they plan to serve.

Any corporation that has been convicted of a felony criminal violation under any Federal law within the past 24 months, or that has any unpaid Federal tax liability that has been assessed, for which all judicial and administrative remedies have been exhausted or have lapsed, and that is not being paid in a timely manner pursuant to an agreement with the authority responsible for collecting the tax liability, is not eligible for financial assistance provided with full-year appropriated funds, unless a Federal agency has considered suspension or debarment of the corporation and has made a determination that this further action is not necessary to protect the interests of the Government.

Debarment and suspension information is required in accordance with 2 CFR parts 417 (Nonprocurement Debarment and Suspension) and 180 (OMB Guidelines to Agencies on Governmentwide Debarment and Suspension (Nonprocurement). The section heading “What information must I provide before entering into a covered transaction with a Federal agency?” located at 2 CFR 180.335 is part of OMB's Guidance for Grants and Agreements concerning Governmentwide Debarment and Suspension. Applicants are not eligible if they have been debarred or suspended or otherwise excluded from, or ineligible for, participation in Federal assistance programs under 2 CFR parts 180 and 417.

2. Cost Sharing or Matching. Matching funds are not required. Up to 10 points may be awarded for applications that contain matching funds. These matching funds must be in the form of cash.

3. Other. All submitted applications must meet the eligibility requirements in this notice and at 7 CFR part 3570, subpart F (ecfr.gov/current/title-7/part-3570/subpart-F), and application requirements noted in 7 CFR 3570.267 (ecfr.gov/current/title-7/subtitle-B/chapter-XXXV/part-3570/subpart-F/section-3570.267).

Applications will not be considered for funding if they do not provide sufficient information to determine eligibility or are missing required elements.

D. Application and Submission Information

1. Address to Request Application Package. For further information on the Community Facilities TAT Grant Program, entities wishing to apply for assistance should contact the USDA RDSO provided in the ADDRESSES section of this notice to obtain copies of the application package. Application information is also available at Grants.gov. Program information may be made available in languages other than English. Persons with disabilities who require alternative means of communication to obtain program information (e.g., Braille, large print, audiotape, American Sign Language) should contact the responsible Mission Area, agency, or staff office; or the 711 Federal Relay Service.

Prior to official submission of applications, applicants may request application guidance from the Agency, as long as such requests are made prior to June 28, 2024. Technical assistance is not meant to be an analysis or assessment of the quality of the materials submitted, a substitute for agency review of completed applications, nor a determination of eligibility. The Agency will not solicit or consider scoring or eligibility information that is submitted after the application deadline. The Agency reserves the right to contact applicants to seek clarification information on materials contained in the submitted application.

2. Content and Form of Application Submission. An application must contain all of the required elements outlined in 7 CFR 3570.267. Each application must address the applicable scoring criteria presented in 7 CFR 3570.273 for the type of funding being requested.

3. System for Award Management and Unique Entity Identifier. At the time of application, each applicant must have an active registration in the System for Award Management (SAM) before submitting its application in accordance with 2 CFR part 25. In order to register in SAM, entities will be required to obtain a Unique Entity Identifier (UEI). Instructions for obtaining the UEI are available at sam.gov/content/entity-registration.

a. Applicant must maintain an active SAM registration, with current, accurate and complete information, at all times during which it has an active Federal award or an application under consideration by a Federal awarding agency.

b. Applicant must ensure that it completes the Financial Assistance General Certifications and Representations in SAM.

c. Applicant must provide a valid UEI in its application, unless determined exempt under 2 CFR 25.110.

d. The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times. Application Funding Submission Deadlines:

a. Paper submissions: The deadline for receipt of a paper application is 4 p.m. local time, July 8, 2024.

b. Electronic submissions: Electronic applications will be accepted via Grants.gov. The deadline for receipt of an electronic application via Grants.gov is 11:59 p.m. Eastern Time on July 3, 2024.

Explanation of Dates: The application dates and times are firm. Applications must be in the USDA RDSO by the dates and times specified above. If the due date falls on a Saturday, Sunday, or Federal holiday, the application is due the next business day. The Agency will not consider any application received after the deadline.

Allow Sufficient Time For Mailing of Application: Applicants intending to mail applications must provide sufficient time to permit delivery on or before the closing deadline date and time. Acceptance by the United States Postal Service or private mailer does not constitute delivery. Facsimile (FAX), electronic mail, and postage due applications will not be accepted. Prior to official submission of applications, applicants may request technical assistance or other application guidance from the Agency, as long as such requests are made prior to June 28, 2024.

5. Intergovernmental Review. This program is subject to Executive Order 12372, which requires intergovernmental consultation with state and local officials. RD conducts intergovernmental consultation as implemented by 2 CFR part 415, subpart C. Not all States have chosen to participate in the intergovernmental review process. A list of participating States is available at the following website: whitehouse.gov/omb/management/office-federal-financial-management.

6. Funding Restrictions. None.

7. Other Submission Requirements. None.

E. Application Review Information

1. Criteria. All eligible and complete applications will be evaluated and scored based on the selection criteria and weights contained in 7 CFR 3570.273 (see, ecfr.gov/current/title-7/subtitle-B/chapter-XXXV/part-3570/subpart-F/section-3570.273). Failure to address any one of the criteria by the application deadline will result in the application being determined ineligible, and the application will not be considered for funding.

All applications that are complete and eligible will be scored and ranked competitively.

The categories for scoring criteria used are the following:

The Agency will score each application using the following scoring factors unless otherwise provided in an annual Notice in the Federal Register:

(a) Experience: Applicant Experience at developing and implementing successful technical assistance and/or training programs:

(1) More than 10 years—40 points.

(2) More than 5 years to 10 years—25 points.

(3) 3 to 5 years—10 points.

(b) No prior grants received:

(1) Applicant has never received a TAT Grant—5 points.

(c) Population: The average population of proposed area(s) to be served:

(1) 2,500 or less—15 points.

(2) 2,501 to 5,000—10 points.

(3) 5,001 to 10,000—5 points.

(d) MHI: The average median household income (MHI) of proposed area to be served is below the higher of the poverty line or:

(1) 60 percent of the State's MHI—15 points.

(2) 70 percent of the State MHI—10 points.

(3) 90 percent of the State's MHI—5 points.

(e) Multi-jurisdictional: The proposed technical assistance or training project is a part of a Multi-jurisdictional project comprised of:

(1) More than 10 jurisdictions—15 points.

(2) More than 5 to 10 jurisdictions—10 points.

(3) 3 to 5 jurisdictions—5 points.

(f) Soundness of approach: Up to 10 points.

(1) Needs assessment: The problem/issue being addressed is clearly defined, supported by data, and addresses the needs;

(2) Goals and objectives are clearly defined, tied to the need as defined in the work plan, and are measurable;

(3) Work plan clearly articulates a well thought out approach to accomplishing objectives and clearly identifies who will be served by the project;

(4) The proposed activities are needed in order for a complete Community Facilities loan and/or grant application.

(g) Matching funds:

(1) There is evidence of the commitment of other cash funds of 20% of the total project costs—10 points.

(2) There is evidence of the commitment of other cash funds of 10% of the total project costs—5 points.

(h) State Director discretionary points. The State Director may award up to 10 discretionary points for the highest priority project in each state, up to 7 points for the second highest priority project in each state, and up to 5 points for the third highest priority project that addresses unforeseen exigencies or emergencies, such as the loss of a community facility due to an accident or natural disaster, or other areas of need in their particular state. The State Director will place written documentation in the project file each time the State Director assigns these points—Up to 10 points.

(i) Administrator discretionary points. The Administrator may award up to 20 discretionary points for projects to address geographic distribution of funds, emergency conditions caused by economic problems, natural disasters and other initiatives identified by the Secretary—Up to 20 points.

2. Review and Selection Process. The State Offices will review applications to determine if applications are eligible for assistance based on requirements contained in 7 CFR part 3570, subpart F. If determined eligible, your application will be forwarded to the National Office. Funding of projects is subject to the intermediary's satisfactory submission of the additional items required by that subpart and the USDA RD Letter of Conditions. Due to the competitive nature of this program, applications receiving the same score will be competed/ranked based on the application scoring the highest on matching funds and multi-jurisdictional categories. In addition to the State Director and Administrator Discretionary priority points, under 7 CFR 3570.273 (see, 7 CFR 3570.273(h) and 7 CFR 3570.273(i)), points may also be awarded with documented justification for any of the three following categories, not to exceed the points allowed in 7 CFR 3570.273(h) and 7 CFR 3570.273(i):

• Addressing Climate Change and Environmental Justice: Reducing climate pollution and increasing resilience to the impacts of climate change through economic support to rural communities. An applicant can receive priority points through one of the three options listed below:

Option 1: Applicants will receive points if the project is located in or serves a Disadvantaged Community as defined by the Climate and Economic Justice Screening Tool (CEJST), from the White House Council on Environmental Quality (CEQ). CEJST is a tool to help Federal agencies identify disadvantaged communities that will benefit from programs included in the Justice40 initiative. Census tracts are considered disadvantaged if they meet the thresholds for at least one of the CEJST's eight (8) categories of burden: Climate, Energy, Health, Housing, Legacy Pollution, Transportation, Water and Wastewater, or Workforce Development.

Option 2: Applicants will receive points if the project is located in or serves an Energy Community as defined by the Inflation Reduction Act (IRA). The IRA defines energy communities as:

• A “brownfield site” (as defined in certain subparagraphs of the Comprehensive Environmental Response, Compensation, and Liability Act of 1980 (CERCLA)).

• A “metropolitan statistical area” or “non-metropolitan statistical area” that has (or had at any time after 2009).

• 0.17% or greater direct employment or 25% or greater local tax revenues related to the extraction, processing, transport, or storage of coal, oil, or natural gas; and has an unemployment rate at or above the national average unemployment rate for the previous year.

• A census tract (or directly adjoining census tract) in which a coal mine has closed after 1999; or in which a coal-fired electric generating unit has been retired after 2009.

Option 3: Applicants will receive points by demonstrating through written narrative how proposed climate-impact projects improve the livelihoods of community residents and meet pollution mitigation or clean energy goals.

To determine if your project qualifies for priority points under Option 1 or Option 2, please use the Disadvantaged Community & Energy Community Look-Up Map.

For more information, please use the following link: rd.usda.gov/priority-points.

• Advancing Racial Justice, Place-Based Equity, and Opportunity: Ensuring all rural residents have equitable access to RD programs and benefits from RD funded projects.

Applicant receives priority points if the project is located in or serving a community with score 0.75 or above on the CDC Social Vulnerability Index. Please use Community Look-Up Map to look up map or list to determine if your project qualifies for priority points.

Applications from Federally Recognized Tribes, including Tribal instrumentalities and entities that are wholly owned by Tribes will receive priority points. Federally Recognized Tribes are classified as any Indian or Alaska Native tribe, band, nation, pueblo, village or community as defined by the Federally Recognized Indian Tribe List Act (List Act) of 1994 (Pub. L. 103-454). Please refer to the Bureau of Indian Affairs for a listing of Federally Recognized Tribes.

Additionally, projects where at least 50% of the project beneficiaries are members of Federally Recognized Tribes, will receive priority points if applications from non-Tribal applicants include a Tribal Resolution of Consent from the Tribe or Tribes that the applicant is proposing to serve.

Applications from or benefiting a Rural Partner's Network's (RPN) community network will receive priority points (rural.gov) in applicable funding notices. Currently RPN Networks exist in Alaska, Arizona, Georgia, Kentucky, Mississippi, Nevada, New Mexico, North Carolina, Puerto Rico, West Virginia and Wisconsin. Please use the Community Look-Up map to determine if your project qualifies for priority points.

For additional information on data sources used for this priority determination, please download the Data Sources for Rural Development Priorities document at the following link: rd.usda.gov/media/file/download/rd-ic-prioritiesdatasupplementalupdatedfy2024.pdf.

• Creating More and Better Market Opportunities: Assisting rural communities recover economically through more and better market opportunities through improved infrastructure. Applicants receive priority points if the project is located in or serving a rural community whose economic well-being ranks in the most distressed tier of the Distressed Communities Index. The Distressed Communities Index provides a score between 1-100 for every community at the zip code level. The most distressed tier of the index are those communities with a score over 80. Please use the Distressed Communities Index Look-Up Map to determine if your project qualifies for priority points.

For additional information on data sources used for this priority determination, please download the Data Sources for Rural Development Priorities document at the following link: rd.usda.gov/media/file/download/rd-ic-prioritiesdatasupplementalupdatedfy2024.pdf.

F. Federal Award Administration Information

1. Federal Award Notices. Successful applicants will receive notification for funding from the RDSO. Applicants must comply with all applicable statutes and regulations before the grant award can be approved. If an application is withdrawn by the applicant, it can be resubmitted and will be evaluated as a new application, provided the application is resubmitted before the submission deadline as stated in section D4.

2. Administrative and National Policy Requirements. Additional requirements that apply to Grantees selected for this Program can be found in 7 CFR part 3570, subpart F (ecfr.gov/current/title-7/part-3570/subpart-F). Awards are subject to the grant regulations at 2 CFR part 400 (ecfr.gov/current/title-2/part-400), which adopt the Office of Management and Budget (OMB) regulations at 2 CFR part 200 (ecfr.gov/current/title-2/part-200) as USDA policies and procedures for grant awards.

If the applicant wishes to consider beginning its project performance prior to the grant being officially closed, all pre-evaluation award costs must be approved in writing and in advance by the Agency.

In addition, all recipients of Federal financial assistance are required to report information about first-tier sub-awards and executive compensation (see 2 CFR part 170 (ecfr.gov/current/title-2/part-170). The applicant will be required to have the necessary processes and systems in place to comply with the Federal Funding Accountability and Transparency Act of 2006 (Pub. L. 109-282) and reporting requirements (see 2 CFR 170.200(b) (ecfr.gov/current/title-2/section-170.200#p-170.200(b)), unless the recipient is exempt under 2 CFR 170.110(b) (ecfr.gov/current/title-2/section-170.110#p-170.110(b)).

The following additional requirements apply to Grantees selected for these Programs:

(a) Form RD 1940-1, “Request for Obligation of Funds.”

(b) Form RD 1942-46, “Letter of Intent to Meet Conditions.”

(c) Form SF-LLL, “Disclosure of Lobbying Activities,” if applicable.

(d) Form SF 270, “Request for Advance or Reimbursement.”

(e) Form RD 400-4, “Assurance Agreement” must be completed by the applicant and each prospective ultimate recipient.

(f) Grantees must collect and maintain data provided by ultimate recipients on race, sex, and national origin and ensure ultimate recipients collect and maintain this data. Race and ethnicity data will be collected in accordance with OMB Federal Register notice, “Revisions to the Standards for the Classification of Federal Data on Race and Ethnicity” (62 FR 58782), October 30, 1997. Sex data will be collected in accordance with Title IX of the Education Amendments of 1972. These items should not be submitted with the application but should be available upon request by the Agency.

(e) The applicant and the ultimate recipient must comply with Title VI of the Civil Rights Act of 1964, Title IX of the Education Amendments of 1972, Americans with Disabilities Act (ADA), Section 504 of the Rehabilitation Act of 1973, Age Discrimination Act of 1975, Executive Order 12250, Executive Order 13166 Limited English Proficiency (LEP), and 7 CFR part 1901, subpart E.

(3) Reporting. The Grantee must provide reports as required by 7 CFR part 3570, subpart F. A financial status report, SF 425 “Federal Financial Report,” and a project performance report will be required as provided in the grant agreement. The financial status report must show how grant funds and matching funds have been used to date. A final report may serve as the last report. Grantees shall constantly monitor performance to ensure that time schedules are being met and projected goals by time periods are being accomplished. Applicant may find the reporting requirements for this grant as set forth at 7 CFR 3570.276 in addition to any reports required by 2 CFR part 200 (ecfr.gov/current/title-2/part-200) and 2 CFR 400.1 (ecfr.gov/current/title-2/section-400.1) to 400.2 (ecfr.gov/current/title-2/section-400.2), and 2 CFR parts 415 to 422 (ecfr.gov/current/title-2/section-415).

G. Federal Awarding Agency Contact(s)

For general questions about this announcement, please contact your USDA RDSO as provided in the ADDRESSES section of this notice or the program website at: rd.usda.gov/programs-services/community-facilities/community-facilities-direct-loan-grant-program.

H. Other Information

(1) Civil Rights Requirements. All grants made under this Notice are subject to Title VI of the Civil Rights Act of 1964 and USDA's nondiscrimination regulation (7 CFR part 15, subpart A), Section 504 of the Rehabilitation Act of 1973, Title VIII of the Civil Rights Act of 1968, Title IX, Executive Order 13166 (Limited English Proficiency), Executive Order 11246, and the Equal Credit Opportunity Act of 1974.

(2) Paperwork Reduction Act. In accordance with the Paperwork Reduction Act of 1995, the information collection requirement contained in this notice has been approved by OMB under OMB Control Number 0575-0198.

(3) National Environmental Policy Act. All recipients under this notice are subject to the requirements of 7 CFR part 1970, available at: rd.usda.gov/resources/environmental-studies/environmental-guidance.

(4) Nondiscrimination Statement. In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; or the 711 Federal Relay Service.

To file a program discrimination complaint, a complainant should complete a Form AD-3027, USDA Program Discrimination Complaint Form, which can be obtained online at usda.gov/sites/default/files/documents/USDA-OASCR%20P-Complaint-Form-0508-0002-508-11-28-17Fax2Mail.pdf?time=1671165786489, from any USDA office, by calling (866) 632-9992, or by writing a letter addressed to USDA. The letter must contain the complainant's name, address, telephone number, and a written description of the alleged discriminatory action in sufficient detail to inform the Assistant Secretary for Civil Rights about the nature and date of an alleged civil rights violation.

The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Yvonne Hsu,
Acting Administrator, Rural Housing Service, USDA Rural Development.

[FR Doc. 2024-11714 Filed 5-31-24; 8:45 am]

BILLING CODE 3410-XV-P